DEPARTMENT OF JUSTICE

Notice of Lodging Proposed Consent Decree

In accordance with Department Policy, 28 CFR 50.7, notice is hereby given that a proposed consent decree in United States v. Michael P. Trinski and Arrow Marine, Inc., Case No. 05 C 0197, was lodged with the United States District Court for the Northern District of Illinois on July 19, 2006. This proposed Consent Decree concerns a complaint filed by the United States against the Defendants pursuant to Section 301(a) of the Clean Water Act (“CWA”), 33 U.S.C. 1311(a) and Section 10 of the Rivers and Harbors Appropriation Act of 1899, 33 U.S.C. 403 (“RHA”), to obtain injunctive relief from and impose civil penalties against the Defendants for installing a boat ramp and associated structures in the Fox River Chain-O-Lakes without a permit.

The proposed Consent Decree requires either removal of the ramp and associated structures or the purchase and abandonment of another ramp on Fox Lake or Pistakee Lake. The Consent Decree also requires payment of a civil penalty, and donation of real property to the Fox Waterway Agency.

The Department of Justice will accept written comments relating to this proposed Consent Decree for thirty (30) days from the date of publication of this notice. Please address comments to Kurt Lindland, Assistant United States Attorney's Office, 5th Floor, 219 S. Dearborn Street, Chicago, Illinois 60604 and refer to United States v. Michael P. Trinski and Arrow Marine, Inc., Case No. 05 C 0197, including the USAO # 2004V00910.

The proposed Consent Decree may be examined at the Clerk's Office, United States District Court for the Northern District of Illinois, 219 S. Dearborn Street, Chicago, Illinois. In addition, the proposed Consent Decree may be viewed on the World Wide Web at http://www.usdoj.gov/enrd/open.html.

Kurt N. Lindland,
Assistant United States Attorney.

[FR Doc. 06-6647 Filed 8-1-06; 8:45 am]

BILLING CODE 4410-15-M